DEPARTMENT OF LABOR

Occupational Safety and Health Administration

[Docket No. ICR 1218-0239(2005)]

Voluntary Protection Programs Information; Extension of the Office of Management and Budget's (OMB) Approval of Information Collection (Paperwork) Requirements

AGENCY: Occupational Safety and Health Administration (OSHA), Labor.

ACTION: Request for public comment.

SUMMARY: OSHA solicits public comment concerning its request for an extension of the information collection requirements contained in the Voluntary Protection Programs Information.

DATES: Comments must be submitted by the following dates:

Hard copy: Your comments must be submitted (postmarked or received) by January 18, 2005.

Facsimile and electronic transmission: Your comments must be received by January 18, 2005.

ADDRESSES: You may submit comments, identified by OSHA Docket No. ICR-1218-0239(2005), by any of the following methods:

Regular mail, express delivery, hand delivery, and messenger service: Submit your comments and attachments to the OSHA Docket Office, Room N-2625, U.S. Department of Labor, 200 Constitution Avenue, NW., Washington, DC 20210; telephone (202) 693-2350 (OSHA's TTY number is (877) 889-5627). OSHA Docket Office and Department of Labor hours are 8:15 a.m. to 4:45 p.m., e.t.

Facsimile: If your comments are 10 pages or fewer in length, including attachments, you may fax them to the OSHA Docket Office at (202) 693-1648.

Electronic: You may submit comments through the Internet at http://ecomments.osha.gov. Follow instructions on the OSHA Web page for submitting comments.

Docket: For access to the docket to read or download comments or background materials, such as the complete Information Collection Request (ICR) (containing the Supporting Statement, OMB-83-I Form, and attachments), go to OSHA's Web page at http://www.OSHA.gov. In addition, comments, submissions and the ICR are available for inspection and copying at the OSHA Docket Office at the address above. You may also contact Cathy Oliver at the address below to obtain a copy of the ICR.

(For additional information on submitting comments, please see the “Public Participation” heading in the SUPPLEMENTARY INFORMATION section of this document.)

FOR FURTHER INFORMATION CONTACT: Cathy Oliver, Division of Voluntary Programs, Office of Partnerships and Recognition, Directorate of Cooperative and State Programs, OSHA, Room N-3700, 200 Constitution Avenue, NW., Washington, DC 20210, telephone: (202) 693-2213. A copy of the Agency's Information Collection Request (ICR) supporting the need for the information collection requirements for the Voluntary Protection Program is available for inspection and copying in the Docket Office, or you may request a mailed copy by telephoning Al Woodson at (202) 693-2589.

SUPPLEMENTARY INFORMATION:

I. Submission of Comments on This Notice and Internet Access to Comments and Submissions

You may submit comments and supporting materials in response to this notice by (1) hard copy, (2) FAX transmission (facsimile), or (3) electronically through the OSHA Web page. Because of security related problems, there may be a significant delay in the receipt of comments by regular mail. Please contact the OSHA Docket Office at (202) 693-2350 (TTY (877) 889-5627) for information about security procedures concerning the delivery of submissions by express delivery, hand delivery and courier service.

All comments, submissions and background documents are available for inspection and copying at the OSHA Docket Office at the above address. Comments and submissions posted on OSHA's Web page are available at http://www.OSHA.gov. Contact the OSHA Docket Office for information about materials not available through the OSHA Web page and for assistance using the Web page to locate docket submissions.

Electronic copies of this Federal Register notice as well as other relevant documents are available on OSHA's Web page.

II. Background

The Department of Labor, as part of its continuing effort to reduce paperwork and respondent (i.e., employer) burden, conducts a preclearance consultation program to provide the public with an opportunity to comment on proposed and continuing information collection requirements in accordance with the Paperwork Reduction Act of 1995 (PRA-95) (44 U.S.C. 3506(c)(2)(A)).

This program ensures that information is in the desired format, reporting burden (time and costs) is minimal, collection instruments are clearly understood, and OSHA's estimate of the information collection burden is accurate. The Occupational Safety and Health Act of 1970 (the Act) (29 U.S.C. 651 et seq.) authorizes information collection by employers as necessary or appropriate for enforcement of the Act or for developing information regarding the causes and prevention of occupational injuries, illnesses, and accidents (29 U.S.C. 657).

The Voluntary Protection Programs (VPP) (47 FR 29025) adopted by OSHA established the efficacy of cooperative action among government, industry, and labor to address worker safety and health issues and to expand worker protection. To quality, employers must meet OSHA's rigorous safety and health management criteria which focus on comprehensive management systems and active employee involvement to prevent or control worksite safety and health hazards. Employers who qualify generally view OSHA standards as a minimum level of safety and health performance, and set their own more stringent standards, wherever necessary, to improve employee protection.

Prospective VPP worksites must submit an application that includes:

• General site information (i.e., site, corporate, and collective bargaining contact information).

• Injury and illness rate performance information (i.e., number of employees and/or applicable contractors onsite, type of work performed and products produced, Standard Industrial Code, and Recordable Injury and Illness Case Incidence Rate information).

• Safety and health program information (i.e., description of the site's safety and health management system including how the system successfully addresses management leadership and employee involvement, worksite analysis, hazard prevention and control, and safety and health training).

OSHA uses this information to determine whether a worksite is ready for a VPP onsite evaluation and as a verification tool during VPP onsite evaluations. Without this information, OSHA would be unable to determine which sites are ready for VPP status.

Each current VPP worksite is also required to submit an annual evaluation, in narrative format, that addresses how that site is continuing its adherence to programmatic requirements. OSHA needs this information to ensure that the worksite remains qualified to participate in the VPP in the three to five years between onsite evaluations. Without this information, OSHA would be unable to determine whether sites are maintaining excellent safety and health management systems during this interim period.

The Occupational Safety and Health Administration (OSHA) is introducing the OSHA Challenge and VPP Corporate Pilot programs. The length of these pilots is planned for two years. However, after the first year OSHA will conduct evaluations to determine whether to continue, modify, or terminate these pilots. These new initiatives will expand programs to promote the safety and health of thousands of workers across the nation.

OSHA Challenge is designed to reach and guide employers and companies in all major industry groups who are strongly committed to improving their safety and health management systems and interested in pursuing recognition in VPP. OSHA Challenge provides participants a guide or roadmap to improve performance and ultimately to achieve VPP Merit or Star approval. OSHA Challenge outlines the requirements needed to develop and implement effective safety and health management systems through incremental steps. At each stage, certain actions, documentation and outcomes are required in the areas covered by VPP criteria. Participants receive recognition from OSHA at the completion of each stage.

Each Challenge Pilot Administrator is required to submit to OSHA electronically a Challenge Pilot Administrator's application package, Administrator's Statement of Commitment, Challenge Pilot Administrator's Information Form, Challenge Pilot Administrator's Quarterly Report (if there have been significant changes to any of its participant's sites), Challenge Pilot Administrator's Annual Report (the Challenge Pilot Administrator must prepare and submit the annual report electronically to OSHA).

The VPP Corporate Pilot is designed to provide a more efficient process for Corporations to increase their level of participation in VPP. The pilot concept is two-fold; the Corporations submit an application that describes corporate level policies and programs that are uniformly applied at facilities across the Corporation. A comprehensive Corporate Program Evaluation is conducted by OSHA to verify the contents of the application. Once a Corporation is accepted in the VPP Corporate Pilot, all eligible corporate facilities will apply for VPP participation using more efficient streamlined application and onsite evaluation processes. Corporations accepted in the VPP Corporate Pilot must submit an annual safety and health report.

VPP worksite employees may apply to participate in the Special Government Employee Program. The Special Government Employee Program was established as a means to leverage OSHA's limited resources. Through this program, safety and health professionals employed at VPP sites are trained to participate as team members during VPP onsite evaluations. In that capacity, Special Government Employees may review company documents, assist with worksite walkthroughs, interview employees, and assist in preparing VPP onsite evaluation reports. Potential Special Government Employees must submit a Special Government Employee's application that includes:

• General contact information (i.e., applicant's name, professional credentials, site/corporate contact information, etc.).

• A resume or the Optional Application for Federal Employment (OF-612) form.

• Confidential Financial Disclosure Report (OGE Form 450).

• Waiver of Claims against the Government.

• Department of Labor Request for Name Check (DL-68).

OSHA uses the contact information to arrange for Special Government Employee participation at VPP onsite evaluations, send congratulatory letters, and inform them of their status in the program. The resume or OF-612 and the DL-68 are used to determine whether an applicant is qualified to participate in the Special Government Employees Program. The OGE Form 450 is used to ensure that Special Government Employees do not participate in evaluations at sites where there may be a conflict of interest. The Waiver of Claims against the Government protects OSHA against liability.

III. Special Issues for Comment

OSHA has a particular interest in comments on the following issues:

• Whether the proposed information collection requirements are necessary for the proper performance of the Agency's functions, including whether the information is useful;

• The accuracy of OSHA's estimate of the burden (time and costs) of the information-collection requirements, including the validity of the methodology and assumptions used;

• The quality, utility, and clarity of the information collected; and

• Ways to minimize the burden on employers who must comply; for example, by using automated or other technological information collection and transmission techniques.

IV. Proposed Actions

OHSA proposes to extend the Office of Management and Budget's (OMB) approval of the collection of information (paperwork) requirements necessitated by the Voluntary Protection Programs. The Agency will include this summary in its request to OMB to extend the approval of these collections of information requirements.

Type of Review: Extension of currently approved information collection requirements.

Title: Voluntary Protection Programs Application Information.

OMB Number: 1218-0239.

Affected Public: Business or other for-profits; and individuals or households.

Number of Respondents:

VPP

278 applications

1,000 annual evaluations

OSHA Challenge

10 applications from Challenge Pilot Administrators

100 applications from Challenge Pilot Candidates

VPP Corporate

7 applications from VPP Corporations

70 applications from VPP Corporate Facilities

Special Government Employees

101 applications from SGEs

Total Respondents: 1,773.

Frequency: VPP applications, Challenge Pilot Administrator's applications, Challenge Pilot Candidate application, VPP Corporate Pilot applications and VPP Corporate Pilot Facility VPP applications are submitted once, Challenge Pilot Administrator's Quarterly Reports are submitted quarterly (if there have been significant changes to any of its participant's sites), VPP annual Evaluations, Challenge Pilot Administrator's Annual Report, and Corporate Safety and Health Report are submitted once per year, and Special Government Employee applications are submitted once every three years.

Average Time Per Response:

VPP General

200 hours for VPP applications

20 hours for VPP evaluations

OSHA Challenge

5 hours for Challenge Pilot Administrator applications

10 hours for Challenge Pilot Candidate applications

5 hours for Challenge Pilot Candidate quarterly reports

20 hours for Challenge Pilot Candidate annual reports

VPP Corporate

120 hours for VPP Corporation's applications

80 hours for VPP Corporate facility applications

40 hours for VPP Corporation's annual reports

Special Government Employees (SGE)

8 minutes for SGE applications

10 minutes for DL-69 Request for Name Check

Estimated Total Burden Hours:

VPP General

55,600 hours for VPP applications

20,000 hours for VPP annual evaluations

OSHA Challenge

50 hours for Challenge Administrator's applications

1,000 hours for Challenge Pilot Candidate's applications

1,500 hours for Challenge Candidate's quarterly reports

2,000 hours for Challenge Candidate's annual reports

VPP Corporate

840 hours for Corporation's applications

5,600 hours for Corporate VPP facility applications

280 hours for Corporate facility annual reports

Special Government Employees (SGE)

13 hours for SGE applications

17 hours for DL-68 Request for Name Check

Total Burden Hours per year (3-year average): 86,900.

Estimated Cost (Operation and Maintenance): $0.

V. Authority and Signature

John L. Henshaw, Assistant Secretary of Labor for Occupational Safety and Health, directed the preparation of this notice. The authority for this notice is the Paperwork Reduction Act of 1995 (44 U.S.C. 3506 et seq.), and Secretary of Labor's Order No. 5-2002 (67 FR 65008).

Signed in Washington, DC, on November 9th, 2004.
John L. Henshaw,
Assistant Secretary of Labor.

[FR Doc. 04-25407 Filed 11-15-04; 8:45 am]

BILLING CODE 4510-26-M